DEPARTMENT OF ENERGY

Federal Energy Regulatory Commission

Combined Notice of Filings #1

September 26, 2008.

Take notice that the Commission received the following exempt wholesale generator filings:

Docket Numbers: EG08-83-000.

Applicants: Project Orange Associates, LLC.

Description: Project Orange Associates, LLC submits its Amendment to Exempt Wholesale Generator Notice adding of additional language to Item 8 of “Representations” section of filing.

Filed Date: 08/19/2008.

Accession Number: 20080819-5008.

Comment Date: 5 p.m. Eastern Time on Friday, October 03, 2008.

Take notice that the Commission received the following electric rate filings:

Docket Numbers: ER08-340-002.

Applicants: Southwest Power Pool, Inc.

Description: Southwest Power Pool, Inc request that the proposed Tariff sheets become effective on or before 2/1/09, upon notice by SPP.

Filed Date: 09/23/2008.

Accession Number: 20080924-0036.

Comment Date: 5 p.m. Eastern Time on Tuesday, October 14, 2008.

Docket Numbers: ER08-895-002.

Applicants: Consolidated Edison Co. of New York, Inc.

Description: Consolidated Edison Company of New York, Inc submits affidavit of John P. Beck as a supplement to its prior response to Inquiry 3(b) posed in the Notice of Deficiency that was issued on 6/24/08.

Filed Date: 09/25/2008.

Accession Number: 20080926-0108.

Comment Date: 5 p.m. Eastern Time on Thursday, October 16, 2008.

Docket Numbers: ER08-1549-000.

Applicants: Southwest Power Pool, Inc.

Description: Southwest Power Pool, Inc submits revised pages to its Open Access Transmission Tariff intended to implement a rate change for Public Service Company of Oklahoma and Southwestern Electric Power Company etc.

Filed Date: 09/17/2008.

Accession Number: 20080919-0009.

Comment Date: 5 p.m. Eastern Time on Wednesday, October 08, 2008.

Docket Numbers: ER08-1567-000.

Applicants: Southern California Edison Company.

Description: Southern California Edison Co submits the Generation Interconnection Process Reform Tariff Amendment for its Wholesale Distribution Access Tariff.

Filed Date: 09/24/2008.

Accession Number: 20080925-0099.

Comment Date: 5 p.m. Eastern Time on Wednesday, October 15, 2008.

Docket Numbers: ER08-1569-000.

Applicants: PJM Interconnection, L.L.C.

Description: PJM Interconnection, LLC submits revisions to Schedule 1 of the Amended and Restated Operating Agreement as well as the parallel provisions of the Appendix to Attachment K of the PJM Open Access Transmission Tariff etc.

Filed Date: 09/25/2008.

Accession Number: 20080926-0101.

Comment Date: 5 p.m. Eastern Time on Thursday, October 16, 2008.

Docket Numbers: ER08-1570-000.

Applicants: PacifiCorp.

Description: PacifiCorp submits Engineering and Procurement Agreement dated 8/27/08 between PacifiCorp and Eurus Combine Hills II LLC to be designated as Service Agreement 507 under PacifiCorp's Seventh Revised Volume 11 OATT.

Filed Date: 09/25/2008.

Accession Number: 20080926-0109.

Comment Date: 5 p.m. Eastern Time on Thursday, October 16, 2008.

Docket Numbers: ER08-1571-000.

Applicants: Bridgeport Energy II, LLC.

Description: Bridgeport Energy II, LLC's emergency request for limited waiver of forward capacity market rules and request for expedited consideration and shortened notice period.

Filed Date: 09/25/2008.

Accession Number: 20080926-0136.

Comment Date: 5 p.m. Eastern Time on Thursday, October 09, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-23315 Filed 10-2-08; 8:45 am]

BILLING CODE 6717-01-P